DEPARTMENT OF HOUSING AND URBAN DEVELOPMENT

[Docket No. FR-4560-FA-11]

Announcement of Funding Awards for the Historically Black Colleges and Universities Program, Fiscal Year 2000

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Historically Black Colleges and Universities (HBCUs) Program. This announcement contains the names and addresses of the awardees and the amount of the awards made available by HUD to provide assistance to the HBCUs.

FOR FURTHER INFORMATION CONTACT: Delores Pruden, Historically Black Colleges and Universities Program, Office of the Deputy Assistant Secretary for Grant Programs, Community Planning and Development, Department of Housing and Urban Development, 451 7th St., S.W., Washington, DC 20410; telephone (202) 708-1590 (this is not a toll-free number). Hearing- and speech-impaired persons may access this number via TTY by calling the Federal Information Relay Service toll-free at 1-800-877-8339. Information may also be obtained from a HUD field office, see Appendix A for names, addresses and telephone numbers, or for general information, applicants can call Community Connections at 1-800-998-9999.

SUPPLEMENTARY INFORMATION: This program is authorized under section 107(b)(3) of the Housing and Community Development Act of 1974 (the 1974 Act) (42 U.S.C. 5307(b)(3)), which was added by section 105 of the Department of Housing and Urban Development Reform Act of 1989 (Pub. L. 101-235). The program is governed by regulations contained in 24 CFR 570.400 and 570.404, and in 24 CFR part 570, subparts A, C, J, K, and O.

This notice announces FY 2000 funding of $10,365,897 to HBCUs to be used to stimulate economic and community development activities in the HBCUs' locality. The FY 2000 grantees announced in this Notice were selected for funding consistent with the provisions in the NOFA published in the Federal Register on February 24, 2000 (65 FR 9429).

The Catalog of Federal Domestic Assistance number for this program is 14.237.

In accordance with section 102(a)(4)(C) of the Department of Housing and Urban Development Reform Act of 1989 (103 Stat. 1987, 42 U.S.C. 3545), the Department is publishing the grantees and amounts of the awards in Appendix B.

Dated: October 10, 2000.
Cardell Cooper,
Assistant Secretary for Community Planning and Development.

Appendix A—Community Planning and Development (CPD) Directors With Historically Black Colleges and Universities Located Within Their Jurisdiction

Harold Cole, Beacon Ridge Tower, 600 Beacon Parkway West, Suite 300, Birmingham, AL 35209-3144; 205-290-7630 ext. 1027

Anne Golnik, TCBY Tower, 425 West Capitol Avenue, Suite 900, Little Rock, AR 72201-3488; 501-324-6375

John Perry, Five Points Plaza, 49 Marietta Street, 15th Floor, Atlanta, GA 30303-2806; 404-331-5001 ext. 2449

Ben Cook, 601 West Broadway, PO Box 1044, Louisville, KY 40201-1044; 502-582-6163 ext. 214

Gregory Hamilton, Hale Boggs Federal Building, 501 Magazine Street, 9th Floor, New Orleans, LA 70130-3099; 504-589-7212 ext. 3047

Joseph O'Connor, City Crescent Building, 10 South Howard Street, 5th Floor, Baltimore, MD 21201-2505; 410-962-2520 ext. 3071

Raymond Perry, Patrick V. McNamara Federal Building, 477 Michigan Avenue, Detroit, MI 48226-2592; 313-226-7908 ext. 8053

Emily Eberhardt, Doctor A. H. McCoy Federal Building, 100 West Capitol Street, Room 910, Jackson, MS 39269-1096; 601-965-4700 ext. 3140

Anne Wiedl, Robert A. Young Federal Building, 1222 Spruce Street, 3rd Floor, St. Louis, MO 631286; 314-539-6524

Lana Vacha, 200 North High Street, Columbus, OH 43215-2499; 614-469-6737 ext. 8240

David Long, 500 West Main Street, Suite 400, Oklahoma City, OK 73102; 405-553-7569

Joyce Gaskins, The Wanamaker Building, 100 Penn Square East, Philadelphia, PA 19107-3380; 215-656-0624 ext. 3201

Louis E. Bradley, Strom Thurmond Federal Building, 1835 Assembly Street, Columbia, SC 29201-2480; 803-765-5564

Virginia Peck, John J. Duncan Federal Building, 710 Locust Street SW, 3rd Floor, Knoxville, TN 37902-2526; 423-545-4391 ext. 121

Katie Worsham, 801 Cherry Street, 25th Floor, Fort Worth, TX 76102; 817-978-5933

John T. Maldonado, Washington Square, 800 Dolorosa Street, San Antonio, TX 78207-4563; 210-475-6820 ext. 2293

Carlos Renteria (Acting), The 3600 Centre, 3600 West Broad Street, Richmond, VA 23230-4920; 804-278-4503 ext. 3229

Ronald Herbert, 820 First Street NE, Suite 450, Washington, DC 20002-4205; 202-275-0994 ext. 3163

Charles T. Ferebee, Koger Building, 2306 West Meadowview Road, Greensboro, NC 27407-3707; 910-547-4005

James N. Nichol, Southern Bell Tower, 301 West Bay Street, Suite 2200, Jacksonville, FL 32202-5121; 904-232-1777 ext. 2136

Jack Johnson, Brickell Plaza Federal Building, 909 Southeast First Avenue, Room 500, Miami, FL 33131-3028; 305-536-4431

Lynn B. Daniels, 339 Sixth Avenue, Sixth Floor, Pittsburgh, PA 15222-2515; 412-644-2999

Carmen R. Caberra, New San Juan Office Building, 159 Carlos E. Chardon Avenue, San Juan, PR 00918; 787-766-5576 ext. 2005

Appendix B—Funding Awards

Alabama

1. Alabama A&M University, Dr. John T. Gibson, President, P.O. Box 1357, Normal, AL 35762; Phone: 256-851-5230, Fax: 256-851-5244

Grant Amount: $350,000.00

2. Alabama State University, Dr. William H. Harris, President, P.O. Box 271, Montgomery, AL 36101; Phone: 334-229-4200, Fax: 334-834-6861

Grant Amount: $220,000.00

3. Bishop State Community College, Dr. Yvonne Kennedy, President, 351 North Broad Street, Mobil, AL 36603; Phone: 334-690-6416, Fax: 334-438-9523

Grant Amount: $183,858.80

4. Gadsden State Community College, Dr. Victor B. Ficker, President, Valley Street Campus, P.O. Box 227, Gadsden, AL 35902-0227; Phone: 256-549-8221, Fax: 256-549-8444

Grant Amount: $380,000.00

5. J.F. Drake Technical College,* Dr. Johnny L. Harris, President, 3421 Meridan Street North, Huntsville, AL 35811; Phone: 256-539-8161, Fax: 256-539-6439

Grant Amount: $175,089.70

6. Lawson State Community College,* Dr. Perry W. Ward, President, 3060 Wilson Road S.W., Birmingham, AL 35221; Phone: 205-925-2515 ext. 300, Fax: 205-923-1649

Grant Amount: $175,089.70

7. Miles College,* Dr. Albert J.H. Sloan II, President, P.O. Box 3800, Birmingham, AL 35208; Phone: 205-929-1428, Fax: 205-929-1426

Grant Amount: $200,000.00

8. Oakwood College, Dr. Delbert Baker, President, 7000 Adventist Boulevard, Huntsville, AL 35896; Phone: 256-726-7334, Fax: 256-726-8335

Grant Amount: $350,000.00

Arkansas

9. Arkansas Baptist College, Dr. William T. Keaton, President, 1600 Bishop Street, Little Rock, AR 72202; Phone: 501-372-6883, Fax: 501-372-0321

Grant Amount: $250,000.00

10. Shorter College,* Dr. Irma Hunter Brown, President, 604 Locust Street, N. Little Rock, AR 72114; Phone: 501-374-6305 ext. 202, Fax: 501-374-9333

Grant Amount: $100,000.00

11. University of Arkansas at Pine Bluff, Dr. Lawrence A. Davis, Jr., Chancellor, 1200 North University Drive, P.O. Box 4008, Pine Bluff, AR 71601; Phone: 870-543-8471, Fax: 870-543-8003

Grant Amount: $310,000.00

District of Columbia

12. Howard University, Mr. H. Patrick Swygert, Esq., President, 2400 6th Street, N.W., Washington, DC 20059; Phone: 202-806-2500, Fax: 202-806-5934

Grant Amount: $175,000.00**

13. University of the District of Columbia, Dr. Juluis F. Nimmons, Jr., President, 4200 Connecticut Avenue N.W., Washington, DC 20008; Phone: 202-274-5100, Fax: 202-274-5304

Grant Amount: $375,000.00

Florida

14. Edward Waters College,* Dr. Jimmy Jenkins, President, 1658 Kings Road, Jacksonville, FL 32209; Phone: 904-366-2500, Fax: 904-366-2544

Grant Amount: $250,000.00

15. Florida A&M University, Dr. Frederick S. Humphries, President, 400 Lee Hall, Tallahassee, FL 32307; Phone: 850-599-3225, Fax: 850-561-2152

Grant Amount: $220,000.00

Louisiana

16. Dillard University,* Dr. Michael Lomax, President, 2601 Gentilly Boulevard, New Orleans, LA 70122; Phone: 504-283-8822, Fax: 504-288-8663

Grant Amount: $123,000.00**

17. Xavier University, Dr. Norman C. Francis, President, 7325 Palmetto Street, New Orleans, LA 70125; Phone: 504-483-7541, Fax: 504-485-7904

Grant Amount: $350,000.00

Maryland

18. Bowie State University, Dr. Calvin W. Lowe, 14000 Jericho Park, Road, Bowie, MD 20715; Phone: 301-464-6500, Fax: 301-464-7814

Grant Amount: $183,858.80**

Mississippi

19. Alcorn State University, Dr. Clinton Bristow, Jr., President, P.O. Box 359, Lorman, MS 39096; Phone: 601-877-6111, Fax: 601-877-2975

Grant Amount: $220,000.00

20. Jackson State University, Dr. Ronald Mason, Jr., President, P.O. Box 17390, 1400 J.R. Lynch Street, Jackson, MS 39217; Phone: 601-979-2323, Fax: 601-979-2948

Grant Amount: $200,000.00

21. Tougaloo College, Dr. Joe A. Lee, President, 500 E. County Line Road, Tougaloo, MS 39174; Phone: 601-977-7730, Fax: 601-977-7866

Grant Amount: $350,000.00

North Carolina

22. Barber-Scotia College,* Dr. Sammie Potts, President, 145 Cabarrus Avenue, Concord, NC 28025; Phone: 704-789-2900/2905, Fax: 704-789-2958

Grant Amount: $150,000.00

23. Elizabeth City State University, Dr. Mickey L. Burnim, Chancellor, P.O. Box 790, Elizabeth City, NC 27909; Phone: 252-335-3228, Fax: 252-335-3731

Grant Amount: $475,000.00

24. North Carolina A&T State University, Dr. James C. Renick, Jr., President, 1601 E. Market Street, Greensboro, NC 27411; Phone: 336-334-7940, Fax: 336-334-7082

Grant Amount: $475,000.00

South Carolina

25. Allen University,* Dr. John K. Waddell, President, 1530 Harden Street, Columbia, SC 29204; Phone: 803-376-5701, Fax: 803-376-5709

Grant Amount: $200,000.00

26. Benedict College, Dr. David Swinton, President, 600 Harden Street, Columbia, SC 29204; Phone: 803-254-7253, Fax: 803-253-5060

Grant Amount: $380,000.00

27. Claflin University, Dr. Henry N. Tisdale, President, 700 College Avenue N.E., Orangeburg, SC 29115; Phone: 803-535-5412, Fax: 803-535-5402

Grant Amount: $325,000.00

Tennessee

28. Fisk University, Dr. John L. Smith, 1000 17th Avenue North, Nashville, TN 37208; Phone: 615-329-8555, Fax: 615-329-8576

Grant Amount: $250,000.00

29. Lemoyne-Owen College, Dr. George R. Johnson, Jr., President, 807 Walker Avenue, Memphis, TN 38126; Phone: 901-942-7301, Fax: 901-942-3572

Grant Amount: $380,000.00

30. Meharry Medical College,* Dr. John E. Maupin, Jr., President, 1005 Dr. D.B. Todd, Jr. Boulevard, Nashville, TN 37208; Phone: 615-327-6904, Fax: 615-327-6540

Grant Amount: $250,000.00

31. Tennessee State University,* James A. Hefner, President, 3500 John Merritt Boulevard, Nashville, TN 37209; Phone: 615-963-7401, Fax: 615-963-7407

Grant Amount: $200,000.00

Texas

32. Huston-Tillotson College, Dr. Larry L. Earvin, President, 900 Chicon Street, Austin, TX 78702; Phone: 512-505-3003, Fax: 512-505-3190

Grant Amount: $380,000.00

33. Saint Philip's College, Dr. Angie Stokes Runnels, President, 1801 Martin Luther King, Jr. Drive, San Antonio, TX 78203; Phone: 210-531-3591, Fax: 210-531-3590

Grant Amount: $350,000.00

34. Texas College, Dr. Haywood L. Strickland, President, P.O. Box 4500, Tyler, TX 75712; Phone: 903-593-8311, Fax: 903-593-0588

Grant Amount: $350,000.00

Virginia

35. Hampton University, Dr. William R. Harvey, President, Hampton, VA 23668; Phone: 757-727-5231, Fax: 757-727-5746

Grant Amount: $220,000.00

36. Norfolk State University, Dr. Marie V. McDemmond, President, 2401 Corprew Avenue, Norfolk, VA 23504; Phone: 757-823-8670, Fax: 757-823-2342

Grant Amount: $265,000.00

37. Virginia Union University,* Dr. Bernard W. Franklin, President, 1500 N. Lombardy Street, Richmond, VA 23220; Phone: 804-257-5835, Fax: 804-257-5833

Grant Amount: $250,000.00

West Virginia

38. West Virginia State College, Dr. Hazo Carter, Jr., President, P.O. Box 399, Institute, WV 25112; Phone: 304-766-3111, Fax: 304-768-9842

Grant Amount: $325,000.00

* Previously unfunded.

** To fund the awards for Howard University, Bowie State University and Dillard University, Fiscal Year (FY) 1998 Recaptured Funds were used as follows:

Howard University | $175,000.00
Bowie State University | 117,717.60
Dillard University | 73,179.40
Total FY 1998 funds used | 365,897.00
Grand Total awarded in FY 2000 | 10,365,897.00

[FR Doc. 00-26958 Filed 10-19-00; 8:45 am]

BILLING CODE 4210-29-P